DEPARTMENT OF JUSTICE

Antitrust Division

Notice Pursuant to the National Cooperative Research and Production Act of 1993—Cooperative Research Group on Integrated Investigations of Faulting in Carbonate Strata

Notice is hereby given that, on September 10, 2007, pursuant to Section 6(a) of the National Cooperative Research and Production Act of 1993, 15 U.S.C. 4301 et seq. (“the Act”), Southwest Research Institute (“SwRI”): Cooperative Research Group on Integrated Investigation of Faulting in Carbonate Strata has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Chevron Energy Technology Co., San Ramon, CA; ConocoPhillips Co., Houston, TX; ExxonMobil Upstream Research Co., Houston, TX; and Shell International Exploration & Production, Inc., Houston, TX. The general area of Cooperative Research Group on Integrated Investigation of Faulting in Carbonate Strata planned activity is to characterize the deformation features that develop in faulted carbonate rocks to provide analog information for understanding faulted carbonate hydrocarbon reservoirs. This investigation is being conducted in an area where faults serve as both barriers and conduits for groundwater movement. Characterization of the faulted field exposures will include stratigraphic, lithologic, structural, hydrologic and geomechanical investigations. Quantitative deformation analysis will be performed through a combination of field- and laboratory-based analysis.

Membership in this research group remains open, and the participants intend to file additional written notification disclosing all changes in membership or planned activities.

Patricia A. Brink,
Deputy Director of Operations, Antitrust Division.

[FR Doc. 07-5566 Filed 11-06-07; 8:45 am]

BILLING CODE 4410-11-M